DEPARTMENT OF TRANSPORTATION

Federal Railroad Administration

49 CFR Part 225

[Docket No. FRA-2025-0122]

RIN 2130-AD57

Allowing for the Electronic Posting of Reportable Injuries and Occupational Illnesses

AGENCY: Federal Railroad Administration (FRA), Department of Transportation (DOT).

ACTION: Notice of proposed rulemaking (NPRM).

SUMMARY: This proposed rule would allow railroads to satisfy the requirement of electronically posting a listing of all injuries and occupational illnesses at an establishment. This proposed rule also removes some of the requirements for what information railroads must include in these listings.

DATES: Comments on the proposed rule must be received by September 2, 2025. FRA may consider comments received after that date, but only to the extent practicable.

ADDRESSES: Comments: Comments related to Docket No. FRA-2025-0122 may be submitted by going to https://www.regulations.gov and following the online instructions for submitting comments.

Instructions: All submissions must include the agency name, docket number (FRA-2025-0122), and Regulatory Identification Number (RIN) for this rulemaking (2130-AD57). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Wissman, Railroad Safety Specialist, Part 225, Federal Railroad Administration, telephone: 610-314-5729, email: michael.wissman@dot.gov; or Michael C. Spinnicchia, Attorney Adviser, Federal Railroad Administration, telephone: 202-713-7671, email: michael.spinnicchia@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of Title 49, Code of Federal Regulations (CFR). The requirements for FRA-regulated entities to report accidents and incidents meeting certain criteria are established in 49 CFR part 225, “Railroad Accidents/Incidents: Reports Classification, and Investigations.” Some of the requirements contained in part 225 could be updated to reduce burdens, make technical or conforming changes, or otherwise adjust to advancing technology, without any adverse effect on railroad safety. Please review the SECTION-BY-SECTION ANALYSIS below for the relevant information related to each proposed change.

II. Section-by-Section Analysis

Section 225.25 Recordkeeping

Paragraph (h) of this section requires that railroads post a listing of all injuries and occupational illnesses reported to FRA “in a conspicuous location at that establishment.” Over the past several years, several Class I railroads have submitted waivers requesting permission to satisfy this posting requirement electronically.¹ FRA has granted these waivers, and is unaware of any issues that have resulted from Class I railroads using electronic posting to fulfill this requirement. Thus, FRA is proposing to allow railroads to post these injuries and illnesses electronically, if certain conditions are met.

¹ See, e.g. FRA-2018-0083.

To achieve this objective, FRA proposes to reorganize paragraph (h). The proposed introductory text of paragraph (h) contains the general posting requirement. Proposed paragraph (h)(1) states the length of time and the sequence that information should be posted. Paragraph (h)(2), which is currently addressed in paragraph (h)(15) of this section, would state that railroads do not have to post information on an occupational injury or illness that is a privacy concern case. New paragraph (h)(3) would contain the list of information that must be included in this posting. FRA is proposing to remove some of the current requirements for these postings. Specifically, FRA proposes removing the requirement in current paragraph (h)(11) that the posting include the annual average number of railroad employees reporting to the establishment. FRA also proposes removing the signature requirement found in current paragraph (h)(12). Finally, FRA is proposing new paragraph (h)(4) which would allow railroads to post the listings required under this paragraph in an electronic format if certain conditions are met. Specifically, railroads using electronic posting would have to ensure that: employees are given instructions or training on accessing the electronic posting; there is a device at the facility employees can use to access the posting or employees are issued a device that can access the posting; and supervisors can show the posting to an employee or FRA representative upon request. These conditions are designed to ensure that railroad employees have guaranteed access to these postings if a railroad decides to post this information electronically.

Lastly, FRA will revise the FRA Guide for Preparing Accident/Incident Reports in accordance with any changes to part 225 finalized in this rulemaking.²

² https://railroads.dot.gov/elibrary/fra-guide-preparing-accidentincident-reports-0.

III. Regulatory Impact and Notices

A. Executive Orders (E.O.) 12866 (Regulatory Planning and Review) and DOT Regulatory Policies and Procedures

FRA has considered the impact of this NPRM under E.O. 12866 (58 FR 51735, Oct. 4, 1993), Regulatory Planning and Review, and DOT Regulatory Policies and Procedures. The Office of Information and Regulatory Affairs within the Office of Management and Budget (OMB) determined that this NPRM is not a significant regulatory action under section 3(f) of E.O. 12866. This rule would allow railroads to electronically post a listing of injuries and occupational illnesses and would remove some of the requirements for what information railroads must include in these listings.

FRA analyzed the potential costs and benefits of this proposed rule. Since this rule would allow railroads to post listings electronically and would remove some requirements for what must be included in these listings, benefits would include increased flexibility and decreased reporting requirements and reduced burden for railroads. Additionally, this rule would provide further clarity by making technical or conforming changes, and otherwise adjusting to advancing technology. Since this rule would not impose any new requirements, it is not expected to have additional costs.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ³ Implementation guidance for E.O. 14192 issued by OMB (Memorandum M-25-20, March 26, 2025) defines two different types of E.O. 14192 actions: an E.O. 14192 deregulatory action, and an E.O. 14192 regulatory action.⁴

³ Executive Office of the President. Executive Order 14192 of January 31, 2025. Unleashing Prosperity Through Deregulation. 90 FR 9065-9067 (Feb. 6, 2025).

⁴ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is negligible or “less than zero” consistent with E.O. 14912, FRA still requests comment on the extent of the cost savings for the changes proposed in this NPRM.

C. Regulatory Flexibility Act and E.O. 13272

The Regulatory Flexibility Act (5 U.S.C. 601 et seq.), as amended by the Small Business Regulatory Enforcement Fairness Act of 1996,⁵ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

⁵ Public Law 104-121, 110 Stat. 857 (Mar. 29, 1996).

No regulatory flexibility analysis is required, however, if the head of an Agency or an appropriate designee certifies that the rule will not have a significant economic impact on a substantial number of small entities. This proposed rule would not preclude small entities from continuing existing practices that comply with part 225; it merely offers flexibilities that could result in cost savings, if a small entity or other regulated entity chooses to utilize those flexibilities. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult either person listed under FOR FURTHER INFORMATION CONTACT.

D. Paperwork Reduction Act

This proposed rule offers regulatory flexibilities, and there are no new collection of information requirements contained in this proposed rule, in accordance with the Paperwork Reduction Act of 1995 (44 U.S.C. 3501-3520). The recordkeeping and reporting requirements already contained in part 225 were approved by the Office of Management and Budget (OMB) on December 5, 2023, and the information collection requirements thereby became effective when they were approved by OMB. The OMB approval number is 2130-0500, and OMB approval expires on December 31, 2026.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This proposed rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁶ FRA has evaluated this proposed rule in accordance with E.O. 13211 and determined that this proposed rule is not a “significant energy action” within the meaning of E.O. 13211.

⁶ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁷ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁷ 19 U.S.C. Ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0122, in the SUMMARY section of this proposed rule.

List of Subjects in 49 CFR Part 225

Investigations, Penalties, Railroad safety, Reporting and recordkeeping requirements.

The Proposed Rule

For the reasons discussed in the preamble, FRA proposes to amend part 225 of chapter II, subtitle B of title 49, Code of Federal Regulations as follows:

PART 225—RAILROAD ACCIDENTS/INCIDENTS: REPORTS CLASSIFICATION, AND INVESTIGATIONS

1. The authority citation for part 225 continues to read as follows:

Authority: 49 U.S.C. 103, 322(a), 20103, 20107, 20901-20902, 21301, 21302, 21311; 28 U.S.C. 2461 note; and 49 CFR 1.89.

2. Revise § 225.25(h) to read as follows:

§ 225.25 Recordkeeping.

* * * * *

(h) Except as provided in paragraph (h)(2) of this section, a listing of all injuries and occupational illnesses reported to FRA as having occurred at an establishment shall be posted in a conspicuous location at that establishment, within 30 days after the expiration of the month during which the injuries and illnesses occurred, if the establishment has been in continual operation for a minimum of 90 calendar days. If the establishment has not been in continual operation for a minimum of 90 calendar days, the listing of all injuries and occupational illnesses reported to FRA as having occurred at the establishment shall be posted, within 30 days after the expiration of the month during which the injuries and illnesses occurred, in a conspicuous location at the next higher organizational level establishment, such as one of the following: an operating division headquarters; a major classification yard or terminal headquarters; a major equipment maintenance or repair installation, e.g., a locomotive or rail car repair or construction facility; a railroad signal and maintenance-of-way division headquarters; or a central location where track or signal maintenance employees are assigned as a headquarters or receive work assignments. These examples include facilities that are generally major facilities of a permanent nature where the railroad generally posts or disseminates company informational notices and policies, e.g., the policy statement in the internal control plan required by § 225.33 concerning harassment and intimidation. At a minimum, “establishment” posting is required and shall include locations where a railroad reasonably expects its employees to report during a 12-month period and to have the opportunity to observe the posted list containing any reportable injuries or illnesses they have suffered during the applicable period.

(1) This listing shall be posted and shall remain continuously displayed for the next 12 consecutive months. Incidents reported for employees at that establishment shall be displayed in date sequence.

(2) Railroads do not have to post information on an occupational injury or illness that is a privacy concern case.

(3) The listing shall contain all of the following information:

(i) Name and address of the establishment.

(ii) Calendar year of the cases being displayed.

(iii) Incident number used to report case.

(iv) Date of the injury or illness.

(v) Location of incident.

(vi) Regular job title of employee injured or ill.

(vii) Description of the injury or condition.

(viii) Number of days employee was absent from work at time of posting.

(ix) Number of days of work restriction for employee at time of posting.

(x) If the employee died, include the date of death.

(xi) The preparer's name, title, and telephone number (including the area code).

(xii) The date the record was completed.

(xiii) When there are no reportable injuries or occupational illnesses associated with an establishment for a month, the listing shall reference this fact.

(4) A railroad may maintain the posting required under paragraph (h) of this section in electronic format if:

(i) Employees are provided instructions or training on how to properly access the electronic posting;

(ii) There is a device at the facility which employees may use to access the posting or employees are issued a device that can access the posting; and

(iii) Supervisors at the establishment can show the posting to employees or an FRA representative upon request.

* * * * *

Issued in Washington, DC.
Kyle D. Fields,
Chief Counsel.

[FR Doc. 2025-12177 Filed 6-27-25; 4:15 pm]

BILLING CODE 4910-06-P